DEPARTMENT OF HEALTH AND HUMAN SERVICES

Administration For Children And Families

[CFDA Number: 93.508]

Announcing the Award of Six Single-Source Program Expansion Supplement Grants From the Tribal Maternal, Infant, and Early Childhood Home Visiting (Tribal MIECHV) Program

AGENCY: Office of Child Care, Administration for Children and Families, HHS.

ACTION: Notice of the award of six single-source program expansion supplement grants to grantees of the Tribal Maternal, Infant, and Early Childhood Home Visiting (Tribal MIECHV) Program.

SUMMARY: The Administration for Children and Families (ACF), Office of Child Care (OCC), Tribal Maternal, Infant, and Early Childhood Home Visiting (Tribal MIECHV) Program, announces the award of single-source program expansion supplement grants to the Confederated Salish and Kootenai Tribes in Pablo, MT; Confederated Tribes of Siletz Indians in Siletz, OR; Inter-Tribal Council of Michigan in Sault Ste. Marie, MI; Red Cliff Band of Lake Superior Chippewa in Bayfield, WI; the Choctaw Nation of Oklahoma in Durant, OK; and the Cherokee Nation of Oklahoma in Tahlequah, OK.

The Fiscal Year 2015 single-source program expansion supplement grants will support the expansion of the Tribal Early Learning Initiative (TELI) program.

DATES: The period of support is September 30, 2015—September 29, 2016.

FOR FURTHER INFORMATION CONTACT: Rachel Schumacher, Director, Office of Child Care, 901 D Street, SW., Washington, DC 20024. Telephone: (202) 401-6984; Email: rachel.schumacher@acf.hhs.gov.

SUPPLEMENTARY INFORMATION: In response to the success of the TELI pilot, the Office of Child Care has awarded single-source program expansion supplement awards to six Tribal MIECHV grantees for expansion of the TELI program.

Objectives of the TELI Expansion

1. Identify and analyze systems issues, including obstacles that could block efforts to build and maintain partnerships, fully and effectively coordinate tribal early childhood development programs, and develop a menu of alternative interventions and strategies in line with tribal community values, traditions, and priorities.

2. Develop tribally driven goals and concrete objectives in each local tribal community for building effective and efficient early childhood systems, high-quality programs, and improved outcomes for young children and families.

3. Develop and carry out concrete community plans for supporting and strengthening cooperation, coordination, resource sharing and leveraging, and integration among programs that support young children and families in the tribal community.

4. Share plans of action, barriers and challenges, opportunities and solutions, and the results of action plans with other tribal communities in an effort to further develop peer-learning relationships.

Applications received from the grantees underwent objective review using criteria such as the applicants' ability to clearly describe the early learning and development programs that will participate in the TELI; their ability to describe existing challenges and strengths to collaboration across their participating early learning and development programs; and whether the submitted budget and budget justification narrative provided for reasonable project costs.

The Following Awards Are Made

A single-source program expansion supplemental grant of $96,000 to the Confederated Salish and Kootenai Tribes in Pablo, MT, to support the development of a shared data system for its early childhood programs that include Head Start, Child Care, and Home Visiting that will allow programs to improve client services by increasing accessibility and reducing wait time and travel time between agencies; a more efficient client information system; promotion of long-term, cross-agency communication and collaboration; improved management systems; and expansion of deliverables such as service reports, outcome analysis, evaluation, assessment success, and other data-driven tools that in turn help to demonstrate the program's viability and value to community funding agencies.

A single-source program expansion supplemental grant of $96,000 to the Confederated Tribes of Siletz Indians in Siletz, OR, to support the identification and analysis of systems issues, including the identification of obstacles that could block efforts to build and maintain partnerships; coordination of Siletz tribal early childhood development programs, and the development of a menu of alternative interventions and strategies, that honor tribal community values, traditions, and priorities; and the development of tribally driven goals and concrete objectives in each local tribal community that support building effective early childhood systems and the development of specific community plans that support and strengthen cooperation, coordination, resource-sharing and leveraging, and the integration of programs in the Siletz Service Area.

A single-source program expansion supplemental grant of $120,000 to the Inter-Tribal Council of Michigan in Sault Ste. Marie, MI, to improve and increase the positive impact of services on families throughout the state through an early childhood system that will provide support and services across the full range of needs from the prenatal period through kindergarten entry; reflect and build on the strengths and wisdom of tribal community values and culture; maximize the use of resources to foster efficiency, yielding maximum impact for each investment; and ensure sustainability, consistency, and ease-of-access at the community level through referral and transition processes that will effectively engage parents as key stakeholders.

A single-source program expansion supplemental grant of $96,000 to the Red Cliff Band of Lake Superior Chippewa in Bayfield, WI, to support the identification and analysis of systems issues to develop a menu of alternative interventions and strategies that honor tribal community values, traditions, and priorities; development of tribally driven goals and concrete objectives in each local tribal community to build effective and efficient early childhood systems, high-quality programs, and improved outcomes for children and families; identification of service providers that support families with young children; provision of training that will deepen the understanding of Trauma-Informed Care and education on the identification and support for individuals experiencing a mental health crisis; and the development of a 5-year plan that identifies data needs for collection, storage, and data protection to improve the coordination and sharing of key child and family data.

A single-source program expansion supplemental grant of $96,000 to the Choctaw Nation of Oklahoma in Durant, OK, for its coordinated effort between the following Choctaw Nation programs: Chahta Inchukka, Chahta Vlla Apela, Child Care Assistance (Child Care Development Fund), Head Start, Early Head Start (Early Head Start-Child Care Partnership), and the Child Development Day Care Program. Through this initiative, program directors will coordinate their programs to create and support a seamless, high-quality, early-childhood system; raise the quality of services to children and families across the pregnancy-to-kindergarten-entry continuum; and identify and break down barriers to collaboration and systems improvement. The Choctaw Nation will commit a TELI coordinator to work across all of Choctaw's early childhood TELI programs; host a shared training for all early learning program staff that will provide professional development on a relevant early childhood topic and offer the opportunity for staff to learn about other programs and network; and complete research about potential data systems that will better coordinate the sharing of relevant child and family data across programs.

A single-source program expansion supplemental grant of $96,000 to the Cherokee Nation of Oklahoma in Tahlequah, OK, to support collaboration between Cherokee PARENTS, Head Start, Early Head Start, and Child Care, and develop a holist approach to child development. The Cherokee Nation plans to develop a strategic work team comprised of a diverse group of stakeholders; share professional development between each program, including conferences and trainings; hold monthly parent/cultural/community meetings; develop a unified assessment tool for assessing the needs of children and families; build a unified resource guide; give priority in referrals between programs by identifying gaps, weaknesses, and shortfalls in program design; and focusing on shared resources to reduce duplicative and burdensome processes.

Statutory Authority: Section 511 of the Title V of the Social Security Act, as added by Section 2951 of the Patient Protection and Affordable Care Act of 2010 (Pub. L. 111-148), and amended by the Protecting Access to Medicare Act of 2014 (Pub. L. 113-93) and the Medicare Access and CHIP Reauthorization Act of 2015 (Pub. L. 114-10).

Mary M. Wayland,
Senior Grants Policy Specialist, Division of Grants Policy, Office of Administration.

[FR Doc. 2016-01033 Filed 1-20-16; 8:45 am]

BILLING CODE 4184-43-P